SOCIAL SECURITY ADMINISTRATION

[Docket No. SSA 2008-0040]

Privacy Act of 1974 as Amended; Computer Matching Program (SSA /Bureau of the Public Debt (BPD)—Match Number 1304)

AGENCY: Social Security Administration (SSA).

ACTION: Notice of the renewal of an existing computer matching program which is scheduled to expire on September 30, 2008.

SUMMARY: In accordance with the provisions of the Privacy Act, as amended, this notice announces the renewal of an existing computer matching program that SSA is currently conducting with BPD.

DATES: SSA will file a report of the subject matching program with the Committee on Homeland Security and Governmental Affairs of the Senate; the Committee on Oversight and Government Reform of the House of Representatives; and the Office of Information and Regulatory Affairs, Office of Management and Budget (OMB). The renewal of the matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L.100-503), amended the Privacy Act (5 U.S.C. 552a) by describing the conditions under which computer matching involving the Federal government could be performed and adding certain protections for individuals applying for, and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: July 31, 2008.
Mary Glenn-Croft,
Deputy Commissioner for Budget, Finance and Management.

Notice of Computer Matching Program, Social Security Administration (SSA) With the Bureau of the Public Debt (BPD)

A. Participating Agencies

SSA and BPD.

B. Purpose of the Matching Program

The purpose of this agreement is to establish the conditions, terms and safeguards under which BPD, the Source Agency, agrees to disclose ownership of Savings Securities to SSA, the Recipient Agency. This disclosure will provide SSA with information necessary to verify an individual's self-certification of eligibility for prescription drug subsidy assistance under Public Law 108-173, the Medicare Prescription Drug, Improvement and Modernization Act of 2003 (MMA).

C. Authority for Conducting the Matching Program

The legal authority for SSA to conduct this matching activity is contained in section 1860D-14 (42 U.S.C.1395w-114) of the Social Security Act. Section 1860D-14 of the Act requires the Commissioner of SSA to verify the eligibility of an individual who seeks to be considered as a subsidy eligible individual for Part D of Medicare under the MMA, and who self-certifies his/her income, resources and family size. Pursuant to section 1860D-14(a)(3) of the Act (42 U.S.C.1395w-114(a)(3)), SSA shall determine whether a Part D eligible individual residing in a state is a subsidy eligible individual and whether the individual is an individual as described in section 1860D-14.

D. Categories of Records and Individuals Covered by the Matching Program

SSA will provide BPD with a finder file containing SSNs extracted from the Medicare database. BPD will match the SSNs in the finder file with the SSNs in its Savings Securities registration systems. This file will be formatted as stated in the attached Appendix. These records are included under the systems of records Treasury/BPD.002, United States Savings-Type Securities, and Treasury/BPD.008, Retail Treasury Securities Access Application, last published on July 23, 2008 at 73 FR 42906 and 42918, respectively. SSA will then match the BPD data with the new Medicare Part D and Part D Subsidy File system of records, SSA/ORSIS 60-0321, published at 69 FR 248 (December 28, 2004). As required by the Privacy Act, the Medicare Part D and Part D Subsidy File system of records was published in the Federal Register (Vol. 69, No. 248, pp. 77816-77822 [04-28302]) on Tuesday, December 28, 2004.

The number of records matched each year is determined in part by the number of people who file for subsidy for Part D. (In July 2007, there were 1,921,207 records matched.) BPD will perform the automated matching with its computer systems and provide the response file to SSA as soon as possible. This agreement covers the following matches:

(1) Screening for Potential Recipients

An ongoing monthly match of less than 200,000 potential applicants and those recipients who notify SSA of a change.

(2) Screening To Confirm Eligibility

Ongoing yearly matches of approximately two million recipients each year for confirming eligibility of individuals receiving Medicare Part D subsidy. SSA will substitute the yearly match file for the ongoing monthly match files and will not be a separate submission.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E8-21817 Filed 9-17-08; 8:45 am]

BILLING CODE 4191-02-P